DEPARTMENT OF HEALTH AND HUMAN SERVICES

Centers for Disease Control and Prevention

[Program Announcement 00145]

Comprehensive Cancer Control; Notice of Availability of Funds

A. Purpose

The Centers for Disease Control and Prevention (CDC) announces the availability of fiscal year (FY) 2000 funds for a sole source cooperative agreement program for the enhancement and implementation of a comprehensive cancer control initiative. Comprehensive cancer control is an integrated and coordinated approach to reduce the incidence, morbidity, and mortality of cancer through prevention, early detection, treatment, rehabilitation, and palliation. This initiative addresses priority minority populations at the community level including medically underserved men and women.

CDC is committed to achieving the health promotion and disease prevention objectives of “Healthy People 2010,” a national activity to reduce morbidity and mortality and improve the quality of life. This announcement is related to the focus area on cancer and the oral cancer objectives in Chapter 21, the oral health focus area. For the conference copy of “Healthy People 2010,” visit the Internet site <http://www.health.gov/healthypeople.

The purpose of the initiative is to assist with the following:

• Enhanced coordination among those involved in all aspects of comprehensive cancer control, from prevention to palliation.

• Implementation of priorities that support the State's comprehensive cancer control plan.

• Increased cooperation and collaboration among risk-factor and cancer-specific programs and activities (including surveillance systems) without compromising the integrity of individual categorical programs.

• Enhanced and strengthened coalitions and partnerships that support the overall goals and objectives of the comprehensive cancer control plan.

• A coordinated approach to the dissemination of cancer-related information; and education programs that are consumer-oriented and embody a comprehensive approach to cancer control.

• Capacity-building and institutionalization of organizational changes promoting comprehensive and integrated cancer control.

• The development or revision of a comprehensive cancer control plan that is being used to support the implementation of cancer prevention and control priorities.

• Evaluation methods to track progress related to the planning and implementation of cancer control plan goals and objectives.

B. Eligible Applicants

Assistance will be provided only to the University of Miami for its comprehensive South Florida Minority Cancer Initiative. No other applications are solicited. The sole source justification is based on congressional language in the Conference Report (H.R. Rep. 106-479, at 601 (1999) to the Consolidated Appropriations Act, 2000 (Public Law 106-113), which earmarked funding for the University of Miami, Miami, Florida.

Note: Public Law 104-65 states that an organization described in section 501 (c)(4) of the Internal Revenue Code of 1986 that engages in lobbying activities is not eligible to receive Federal funds constituting an award, grant, cooperative agreement, contract, loan, or any other form.

C. Availability of Funds

Approximately $800,000 is available in FY 2000 to fund the program described below. It is expected that the awards will begin September 30, 2000, and will be made for a 12-month budget period within a project period of up to 3 years. Funding estimates may change.

Continuation awards within an approved project period will be made on the basis of satisfactory progress as evidenced by required reports and the availability of funds.

Use of Funds

Cooperative agreement funds may not be expended to provide inpatient hospital or treatment services. Treatment is defined as any service recommended by a clinician, including medical and surgical intervention provided in the management of a diagnosed condition.

These funds are intended for comprehensive cancer control and should not be used to directly support other existing programs such as breast and cervical cancer programs, cancer registry programs, laboratory or clinical services, or tobacco control programs. Indirectly, these funds may be used to assist with the integration and coordination of activities related to these existing programs. Thus, these funds should be used to assist with the coordination of these and other categorical programs into comprehensive cancer control activities. Funds awarded under this program announcement may not be used to supplant existing program efforts.

D. Program Requirements

Comprehensive cancer control activities should adhere to current accepted public health recommendations by the U.S. Preventive Services Task Force, or current Division of Cancer Prevention and Control (DCPC) guidance.

In conducting activities to achieve the purpose of the program, the recipient shall be responsible for the following activities under 1. (Recipient Activities), and CDC will be responsible for activities listed under 2. (CDC Activities).

1. Recipient Activities

a. Identify and hire necessary key staff to implement the comprehensive cancer control plan.

b. Maintain or enhance a broad-based comprehensive cancer control coalition that includes representation from throughout the state. This coalition should include key private, professional, voluntary, and nonprofit organizations, policymakers, consumers (including cancer survivors), payers, media, State and federal agencies, research and academic institutions, schools, etc. Particular emphasis should be placed on ensuring participation from organizations representing minority and medically underserved populations.

c. Establish and implement priorities that support the State's comprehensive cancer control plan, which provides a framework for planning and action to reduce the burden of cancer in the State. Implementation should be guided by goals and objectives documented in an implementation plan to be developed or included as part of this application.

d. Promote collaboration and coordination among existing state-based surveillance systems for use in monitoring changes in cancer disease burden and programmatic impact of the comprehensive cancer control efforts especially in minority and medically underserved populations. Data should be used for program modifications and improvements, evaluation, and updating the comprehensive cancer control plan, as appropriate.

e. Evaluate progress and impact of the program based on a systematic evaluation plan. In addition to evaluating progress in meeting goals, process and impact objectives of the implementation plan, the program should develop performance indicators to use as benchmarks for improvement and to determine the success of the overall comprehensive cancer control effort.

f. Promote the development and dissemination of information and education programs that will contribute to comprehensive cancer control; and as appropriate, participate in national cancer prevention, early detection, and control campaigns. Program should use existing education resources as well as develop materials and activities that address specific needs of the minority and medically underserved populations, as necessary and appropriate. School health education and policies should be considered as part of these strategies. In addition to addressing educational needs of the targeted populations, programs should also consider activities that attempt to make individual, policy, organizational or environmental interventions and changes that can encourage primary prevention at all levels, e.g., organizational changes that can reinforce and support individual behavior changes.

g. Participate in CDC-sponsored trainings, meetings, site visits, and conferences.

2. CDC Activities

a. Convene meetings for information-sharing or training. As appropriate, these meetings will be conducted with other CDC comprehensive cancer control cooperative agreement recipients.

b. Facilitate the exchange of information and collaboration between the recipient and other local, state, regional or national comprehensive cancer control efforts.

c. Disseminate to recipient relevant state-of-the-art research findings and public health recommendations related to comprehensive cancer control.

d. Provide ongoing guidance, consultation, and technical assistance in conducting Recipient Activities.

e. Conduct site visits to assess program progress, and mutually resolve problems, as needed, and coordinate reverse site visits to CDC in Atlanta, Georgia.

F. Application Content

Use the information in the Program Requirements, Other Requirements, and Evaluation Criteria sections to develop the application content. Your application will be evaluated on the criteria listed, so it is important to follow them in laying out your program plan. The narrative should be no more than 20 (twenty) double-spaced pages, printed on one side, with one-inch margins, and unreduced 12 point font.

1. Statement of Need

Identify opportunities for enhancement/improvement and existing gaps in the support of comprehensive cancer control and prevention activities. Describe the extent to which the proposed program will fill existing gaps and provide a brief description of each programmatic plan or research activity.

2. Objectives

Establish and submit short- and long-term objectives relative to the described need in Section 1 above. Objectives must be specific, measurable, attainable, time phased, and realistic.

3. Operational Plan

Submit an operational plan including a timeline that addresses the means for achieving each of the objectives established in Section 2 (objectives) above. Provide a concise description of each component or major activity and how it will be implemented. The plan must identify and establish a time line for the completion of each component or major activity.

4. Evaluation Plan

Submit a plan for monitoring progress toward achieving each of the objectives stated in Section 2 (objectives) above.

5. Program Management

Describe the organizational capacity to conduct and manage cancer prevention and control projects and the project need, functions, and qualification for each program or research personnel requested.

6. Budget

Submit a detailed budget and narrative justification that is consistent with the purpose of the program and the proposed activities.

F. Submission and Deadline

Submit the original and two copies of PHS 5161-1 (OMB Number 0937-0189).

On or before August 1, 2000, submit the application to the Grants Management Specialist identified in the “Where to Obtain Additional Information” section of this announcement.

Deadline: Applications will be considered as meeting the deadline if they are either:

a. Received on or before the stated deadline date; or

b. Sent on or before the deadline date. (Applicants must request a legibly dated U.S. Postal Service postmark or obtain a legibly dated receipt from a commercial carrier or the U.S. Postal Service. Private metered postmarks shall not be acceptable proof of timely mailing.)

Late Applications: Applications which do not meet the criteria in a. or b. above are considered late applications and will be returned to the applicant.

G. Evaluation Criteria

The application will be evaluated according to the following criteria by an independent review group appointed by CDC.

1. Need statement. The extent to which the applicant identifies specific opportunities and existing gaps related to the purpose of the program. (10 points)

2. Objectives. The degree to which short- and long-term objectives are specific, measurable, attainable, time phased, and realistic. (20 points)

3. Operational Plans. The adequacy of the applicant's plan to carry out the proposed activities, including the extent to which the applicant plans to work collaboratively with other organizations and individuals who may have an impact on cancer prevention and control objectives particularly among minority and medically underserved populations; and the extent to which the proposal timeline appears feasible. (25 points)

4. Evaluation Plan. The extent to which the evaluation plan appears capable of monitoring progress toward meeting project objectives. (25 points)

5. Program Management. The extent to which applicant demonstrates the ability to conduct and manage cancer prevention and control projects and that proposed staff appear to be qualified and possess capacity to perform the project. (20 points)

6. Budget. The extent to which each line-item budget and narrative justification are reasonable and consistent with the purpose and objectives of the program. (Not scored)

7. Human Subjects. Does the application adequately address the requirements of Title 45 CFR Part 46 for the protection of human subjects? (Not scored)

The degree to which the applicant has met the CDC Policy requirements regarding the inclusion of women, ethnic, and racial groups in the proposed research. This includes—

a. The proposed plan for the inclusion of both sexes and racial and ethnic minority populations for appropriate representation.

b. The proposed justification when representation is limited or absent.

c. A statement as to whether the design of the study is adequate to measure differences when warranted.

d. A statement as to whether the plans for recruitment and research for study participants include the process of establishing partnerships with community(ies) and recognition of mutual benefits.

H. Other Requirements

Technical Reporting Requirements

Provide CDC with the original plus two copies of the following:

1. Annual written progress report must be submitted 30 days after the end of each budget period.

2. Financial status report (FSR) must be submitted 90 days after the end of each budget period.

3. Final financial and performance reports, must be submitted 90 days after the end of the project period.

Send all reports to the Grants Management Specialist identified in the “Where to Obtain Additional Information” section of this announcement.

The following additional requirements are applicable to this program. For a complete description of each, see Attachment I in the application package.

AR-1 Human Subjects Requirement

AR-2 Requirements for Inclusion of Women and Racial and Ethnic Minorities in Research

AR-9 Paperwork Reduction Act Requirements

AR-10 Smoke-Free Workplace Requirements

AR-11 Healthy People 2010

AR-12 Lobbying Restrictions

AR-20 Conference Support

I. Authority and Catalog of Federal Domestic Assistance Number

This program is authorized under sections 301(a), 317(k)(2) of the Public Health Service Act [42 U.S.C. 241(a) and 247b(k)(2)], as amended. The Catalog of Federal Domestic Assistance Number for this program is 93.283.

J. Where To Obtain Additional Information

For this announcement and other CDC program announcements see the CDC home page on the Internet: http://www.cdc.gov.

If you have questions after reviewing the contents of all the documents, business management technical assistance may be obtained from: Cynthia Collins, Grants Management Specialist, Grants Management Branch, Procurement and Grants Office, Announcement 00145, Centers for Disease Control and Prevention (CDC), Room 3627, 2920 Brandywine Road, Atlanta, GA 30341, Telephone (770) 488-2757, E-mail address ccollins@cdc.gov.

For program technical assistance, contact: Corinne Graffunder, Chief, Section A, Program Services Branch, Division of Cancer Prevention and Control, National Center for Chronic Disease Prevention and Health Promotion, Centers for Disease Control and Prevention (CDC), 4770 Buford Highway NE., Mailstop K-57, Atlanta, GA 30341-3724, Telephone (770) 488-4880, fax (770) 488-3230. E-mail address: cgraffunder@cdc.gov.

Dated: May 31, 2000.
John L. Williams,
Director, Procurement and Grants Office, Centers for Disease Control and Prevention (CDC).

[FR Doc. 00-14097 Filed 6-5-00; 8:45 am]

BILLING CODE 4163-18-P